DEPARTMENT OF THE INTERIOR

Bureau of Indian Affairs

Plan for the Use and Distribution of the Red Lake Band of Chippewa Indians Judgment Funds

AGENCY: Bureau of Indian Affairs, Interior.

ACTION: Notice.

SUMMARY: Notice is hereby given that the plan for the use and distribution of the Red Lake Band of Chippewa Indians (Tribe) judgment funds is effective as of April 28, 2002. The judgment funds were awarded by the United States Court of Federal Claims in Docket 189-C, and appropriated on February 23, 2001. The plan also provides for the use and distribution of escrow funds that remain from funds awarded to the Tribe in Dockets 189-A and 189-B. The funds were held in escrow for the repayment of expert assistance loans made to the Tribe by the Bureau of Indian Affairs. Congress waived the repayment of these loans under Section 813 of Title VIII of the Act of December 27, 2000, Pub. L. 106-568, 114 Stat. 2868.

FOR FURTHER INFORMATION CONTACT: Daisy West, Bureau of Indian Affairs, Division of Tribal Government Services, MS-4631-MIB, 1849 C Street, NW, Washington, DC 20240. Telephone number: (202) 208-2475.

SUPPLEMENTARY INFORMATION: The plan for the use and distribution of the funds was submitted to Congress on December 20, 2001. The receipt of the plan was recorded in the Congressional Record published on December 20, 2001. The plan became effective on April 28, 2002, since a joint resolution disapproving it was not enacted. The plan reads as follows:

Plan

For the Use and Distribution of Red Lake Band of Chippewa Judgment Funds in Docket 189-C and the Escrow Funds Remaining in Dockets 189-A and 189-B

The funds appropriated on February 23, 2001, in satisfaction of an award granted to the Red Lake Band of Chippewa Indians of the Red Lake Reservation in Minnesota (Tribe) in Docket 189-C, plus funds that were held in escrow for the payment of litigation expenses from the funds appropriated on September 27, 1997, in Dockets 189-A and 189-B before the United States Court of Federal Claims (Court), including all interest and investment income accrued, less attorney fees and litigation expenses, shall be distributed as herein provided.

(A) Programming

The programming funds shall be allocated by the Tribe for the following projects:

Permanent Trust Fund Capitalization: A permanent non-expendable privately invested account in the sum of $40,000,000 shall be established by the Tribe. The interest earned on those funds (starting from the date the funds are transferred to the Tribe and the investment account is created) shall be available to implement the Red Lake Indian Reforestation Plan (Reforestation Plan) that was attached as Exhibit “A” to the Joint Motion for Entry of Stipulated Judgment and approved by the Court on January 16, 2001. The Reforestation Plan may be modified by the Tribe in consultation with, and with the approval of the Secretary of the Interior.

Litigation Costs.¹ The sum of $7,525,657 shall be available for attorney fees and litigation expenses incurred by the tribe in Dockets 189-A, B, C, and 388-82L. This amount includes the funds necessary to cover a debt forgiveness bill in the sum of $15,405, and the fees that were awarded to the Tribe by the court order dated April 18, 2001. If and when the Tribe receives the additional funds, those funds will be allocated to the Tribe's general fund.

¹ Litigation Costs: The attorney fees and litigation expenses that were advanced by the Tribe from tribal funds during the litigation of these claims is a qualified litigation expense under the terms of 25 U.S.C. that can and should be reimbursed to the Tribe from the judgment prior to the effective date of the plan. The Tribe can also advance $3,601,573.38 for payment of attorney fees that were awarded by the Court in the order dated April 18, 2001. The $3.6 million is included in the $7.5 million earmarked for litigation costs.

Land Restoration Fees and Expenses: The Tribe has incurred costs for land restoration fees and expenses. The sum of $680,578 shall be available to reimburse the Tribe for costs incurred up until the date the plan becomes effective, and to pay the estimated cost of future land restoration fees and expenses.

(B) Per Capita Distribution

The remaining funds, estimated to be $10,423,000, shall be distributed in the form of per capita payments (in sums as equal as possible) to all persons who were born on or prior to and living on July 31, 2001, and who are enrolled members of the Red Lake Band of Chippewa Indians.

The per capita shares of living competent adults shall be paid directly to them, with the exception that the per capita shares of nursing home residents and incarcerated persons shall be paid into Individual Indian Money accounts for withdrawal upon application. The per capita shares of deceased individual beneficiaries shall be determined in accordance with 43 CFR, part 4, subpart D. Per capita shares of legal incompetents and minors shall be handled as provided in 25 U.S.C. 1403(b)(3), except that by Order of the Red Lake Tribal Court, minors' funds may be withdrawn for damages, reparations or restitutions to victims of crime.

(C) General Provisions

The programming portion of the judgment funds shall be disbursed to the Tribe within 60 days of the effective date of the plan, except that the litigation fees and expenses shall be available to the Tribe for disbursement prior to the effective date of the plan, as authorized under 25 U.S.C. 1401. Once the program funds are disbursed to the Tribe, the United States Government shall no longer have any trust responsibility for the investment, supervision, administration, or expenditure of the program portion of the judgment funds. The Tribe shall prepare an annual accounting of each of the program activities under the programming portion of this judgment fund distribution plan. The accounting report shall be made available to the tribal members and to the Secretary of the Interior.

The Secretary, in arranging for per capita payments to be made, shall withhold sufficient shares for individuals whose eligibility may be in question. Those shares shall be held in a separate interest-bearing account pending determination of enrollment appeals. Funds not used to pay shares and pro rata interest to successful applicants, plus any other residual balances shall be disbursed to the tribe and allocated to the Tribe's general fund.

None of the funds distributed per capita or made available under this plan for programming shall be subject to Federal or State income taxes, nor shall such funds nor their availability be considered as income or resources nor otherwise utilized as the basis for denying or reducing the financial assistance or other benefits to which such household or member would otherwise be entitled under the Social Security Act, or except for per capita shares in excess of $2,000 any Federal or federally assisted programs.

This notice is published in exercise of authority delegated to the Assistant Secretary—Indian Affairs under 25 U.S.C. 2 and 9 and 209 DM 8.

Dated: May 24, 2002.
Neal A. McCaleb,
Assistant Secretary—Indian Affairs.

[FR Doc. 02-13926 Filed 6-3-02; 8:45 am]

BILLING CODE 4310-4J-P